FEDERAL COMMUNICATIONS COMMISSION

Public Information Collection Approved by Office Of Management and Budget

September 12, 2007.

SUMMARY: The Federal Communications Commission (FCC) has received Office of Management and Budget (OMB) approval for the following public information collection pursuant to the Paperwork Reduction Act of 1995, Public Law 104-13. An agency may not conduct or sponsor and a person is not required to respond to a collection of information unless it displays a currently valid control number.

FOR FURTHER INFORMATION CONTACT: Sue Gilgenbach, Federal Communications Commission, 445 12th Street, SW., Washington, DC 20554, (202) 418-0639 or via e-mail at Sue.Gilgenbach@fcc.gov.

SUPPLEMENTARY INFORMATION: OMB Control No.: 3060-1107.

OMB Approval Date: 9/11/2007.

Expiration Date: 12/31/2007.

Title: Request to state and local public safety entities for information on equipment operating in affected portion of 700 MHz public safety spectrum.

Form No.: N/A.

Estimated Annual Burden: 94 responses; 1,974 total annual burden hours; an average of 21 hours per response.

Needs and Uses: Pursuant to the Commission's 700 MHz Second Report and Order (22 FCC Rcd 15289 (2007)), this information collection requires every 700 MHz Band public safety licensee, whether holding individual narrowband authorizations or operating pursuant to a State License, to provide the following information to the Commission: (1) The total number of narrowband mobile and portable handsets in operation in channels 63 and 68, and the upper 1 megahertz of channels 64 and 69, as of 30 days after the date of adoption of its 700 MHz Second Report and Order, (2) the total number of narrowband base stations serving these handsets in operation, (3) contact information for each identified set of handsets and base stations, as appropriate, (4) the areas of operation of the mobile and portable units (such as defined by the jurisdictional boundaries of the relevant public safety departments), and (5) the location, in latitude and longitude, of the base stations.

In order to create a nationwide, interoperable public safety broadband network, the 700 MHz Second Report and Order establishes a public safety band plan consistent with such a network. It consolidates narrowband operations in the upper 12 megahertz of the 700 MHz Public Safety band and designates the lower 10 megahertz of that band solely for broadband communications. It also shifts the public safety spectrum block down by 1 megahertz in order to avoid interference problems along the border with Canada. This requires relocation of all public safety narrowband operations in channels 63 and 68, and the upper 1 megahertz of channels 64 and 69. The 700 MHz Second Report and Order requires the winner of the Upper 700 MHz Band D Block license to pay the costs associated with relocating public safety narrowband operations to the consolidated channels. It also assigns responsibility to a newly created Public Safety Broadband Licensee to administer the relocation process consistent with the requirements and deadlines set forth in 700 MHz Second Report and Order. This information collection will identify the actual numbers of radios and base stations that the winner of the D Block license will be responsible for paying the costs of relocating.

Federal Communications Commission.
Marlene H. Dortch,
Secretary.

[FR Doc. E7-18465 Filed 9-19-07; 8:45 am]

BILLING CODE 6712-01-P